DEPARTMENT OF HOUSING AND URBAN DEVELOPMENT

[Docket No. FR-4280-N-06]

Uniform Physical Condition Standards and Physical Inspection Requirements; Notice of Availability of Physical Inspection Software and Guidebook and Notice of Compliance Date With Physical Inspection Procedures

AGENCY: Office of the Assistant Secretary for Housing—Federal Housing Commissioner, and Office of the Director of the Real Estate Assessment Center, HUD.

ACTION: Notice.

SUMMARY: On September 1, 1998, HUD published its final rule on Uniform Physical Conditions Standards and Uniform Physical Inspection Requirements for Certain HUD Housing. In that rule, HUD stated that when HUD issued the physical inspection software and guidebook, the availability would be announced by Federal Register notice. The rule also provided that the availability notice would provide the covered entities with 30 days notice to prepare to conduct physical inspections in accordance with the requirements of 24 CFR part 5, subpart G. This notice announces the availability of the software and guidebook, and provides the 30-day notice required by the rule.

FOR FURTHER INFORMATION CONTACT: For further information about housing entities covered by this notice, contact Kenneth Hannon, Office of Housing, Department of Housing and Urban Development, 451 Seventh St, SW., Room 6160, Washington, DC 20410, (202) 708-0547, ext. 2599. For further information about other matters covered by this notice, contact Wanda Funk, Real Estate Assessment Center, Department of Housing and Urban Development, 1280 Maryland Avenue, SW., Suite 800, Washington, DC 20024; telephone Customer Service Center at 1-888-245-4860 (this is a toll-free number). Persons with hearing or speech impairments may access that number via TTY by calling the Federal Information Relay Service at (800) 877-8339. Additional information is available from the REAC Internet Site, http://www.hud.gov/reac.

SUPPLEMENTARY INFORMATION:

Background

Uniform Physical Conditions Standards (UPCS)

On September 1, 1998 (63 FR 46566), HUD published its final rule on Uniform Physical Conditions Standards (UPCS) and Uniform Physical Inspection Requirements for Certain HUD Housing. The standards provided in the September 1, 1998 final rule, and codified at 24 CFR part 5, subpart G, are intended to ensure that housing insured and/or assisted under certain HUD programs is decent, safe, sanitary and in good repair. The September 1, 1998, final rule also generally established new physical inspection procedures that allow HUD to determine that the housing is in conformity with the standards.

In the preamble to the September 1, 1998, final UPCS rule (64 FR 46566) and in § 5.705(b) of the regulation itself, HUD advised that entities responsible for conducting inspections to determine compliance with the UPCS would not be required to conduct inspections in accordance with the UPSC until HUD issued the inspection software and accompanying guidebook. HUD advised that when these two items have been issued, HUD would publish a notice in the Federal Register to inform the public of the availability of the software and guidebook. HUD also advised that the notice, when issued, would provide 30 days within which those entities must prepare to conduct the physical inspections in accordance with the requirements of 24 CFR part 5, subpart G.

UPCS—Administrative Process for Assessment of Insured and Assisted Properties

On November 26, 1999 (64 FR 66530), HUD published a proposed rule titled Uniform Physical Condition Standards and Physical Inspection Requirements for Certain HUD Housing; Administrative Process for Assessment of Insured and Assisted Properties. This proposed rule establishes for multifamily housing (non-public housing as more fully described) certain administrative processes by which HUD will notify owners of HUD's assessment of the physical condition of their multifamily housing; the owners, under certain circumstances, will be provided an opportunity to seek technical or other review of HUD's physical condition assessment of multifamily housing properties; and HUD may take action in certain cases when a property is found not to be in compliance with the UPCS.

HUD anticipates the final rule implementing the proposed rule will be published in the Federal Register within the next several weeks. The final rule will be effective 30 days after the date of publication in the Federal Register.

Thirty Day Notice

This notice constitutes the notice referred in the September 1, 1998, final UPSC rule, now codified in 24 CFR 5.705(b). Physical inspection software for public use and the accompanying guidebook may be obtained, at no cost, by contacting: Technical Assistance Center, Real Estate Assessment Center, Department of Housing and Urban Development, 1280 Maryland Avenue, SW, Suite 800, Washington, DC 20024; telephone 1-888-245-4860 (this is a toll-free number). Both items also may be downloaded, at no cost, from the REAC Internet Site, at http://www.hud.gov/reac/products/pass/pass-demo.html. In addition, training in the uniform physical condition standards and inspection protocol is available from the trainers on the approved training list on the REAC Internet Site, at http://www.hud.gov/reac/products/pass/pass_srclist.html.

All covered entities that are required to conduct physical inspections of properties to determine compliance with the UPCS regulations, must begin using HUD's physical inspection procedures by November 24, 2000.

Dated: October 16, 2000.
William C. Apgar,
Assistant Secretary for Housing—Federal Housing Commissioner.
Donald J. LaVoy,
Director, Real Estate Assessment Center.

[FR Doc. 00-27189 Filed 10-23-00; 8:45 am]

BILLING CODE 4210-27-P